DEPARTMENT OF COMMERCE

International Trade Administration

Initiation of Antidumping and Countervailing Duty Administrative Reviews and Request for Revocation in Part

AGENCY: Enforcement and Compliance, formerly Import Administration, International Trade Administration, Department of Commerce.

SUMMARY: The Department of Commerce (“the Department”) has received requests to conduct administrative reviews of various antidumping and countervailing duty orders and findings with February anniversary dates. In accordance with the Department's regulations, we are initiating those administrative reviews.

DATES: Effective Date: April 1, 2014.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with February anniversary dates. With respect to the antidumping duty orders on Certain Frozen Warmwater Shrimp from India and Thailand, the intiation of the antidumping duty administrative review for these cases will be published in a separate initiation notice.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303.¹ Such submissions are subject to verification in accordance with section 782(i) of the Tariff Act of 1930, as amended (“Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than February 28, 2015.

| Period to be reviewed
Antidumping Duty Proceedings
Brazil: Certain Frozen Warmwater Shrimp A-351-838 | 2/1/13-1/31/14
Amazonas Industrias Alimenticias (AMASA) |
Pesquera Veraz S.A. |
Procesadora del Rio S.A. (PRORIOSA)
Brazil: Stainless Steel Bar, A-351-825 | 2/1/13-1/31/14
Villares Metals S.A.
France: Low Enriched Uranium, A-427-818 | 2/1/13-1/31/14
REVA NC
AREVA NC, Inc.
Eurodif S.A.
India: Certain Preserved Mushrooms, A-533-813 | 2/1/13-1/31/14
Agro Dutch Foods Limited (Agro Dutch Industries Limited)
Himalya International Ltd.
Hindustan Lever Ltd. (formerly Ponds India, Ltd.)
Transchem, Ltd.
Weikfield Foods Pvt. Ltd.
India: Stainless Steel Bar, A-533-810 | 2/1/13-1/31/14
Ambica Steels Limited
Bhansali Bright Bars Pvt. Ltd.
Mexico: Large Residential Washers,⁴ A-201-842 | 8/3/12-1/31/14
Electrolux Home Products Corp. NV
Electrolux Home Products de Mexico, S.A. de C.V.
Samsung Electronics Mexico S.A. de C.V.
Republic of Korea: Certain Cut-to-Length Carbon-Quality Steel Plate, A-580-836 | 2/1/13-1/31/14
Bookuk Steel Co., Ltd.
Dongkuk Steel Mill Co., Ltd.
Hyosung International
Samsung C&T Corporation
SM Solution Co. Ltd.
TCC Steel Corporation
Republic of Korea: Large Residential Washers, A-580-868 | 8/3/12-1/31/14
Daewoo Electronics Corporation
LG Electronics, Inc.
Samsung Electronics Co, Ltd.
Socialist Republic of Vietnam: Certain Frozen Warmwater Shrimp, A-552-802 | 2/1/13-1/31/14
Agrex Saigon
Amanda Foods (Vietnam) Ltd. Ngoc Tri Seafood Company (Amanda's affiliate)
Amanda Seafood Co., Ltd.
An Giang Coffee JSC
Anvifish Joint Stock Co.
Bac Lieu Fisheries Company Limited
Bac Lieu Fisheries Company Limited (“Bac Lieu”)
Bac Lieu Fisheries Company Limited and/or Bac Lieu Fisheries Company Limited (“Bac Lieu”)
Bac Lieu Fisheries Joint Stock Company
Bac Lieu Fisheries Limited Company
Bentre Aquaproduct Import & Export Joint Stock Company
Ben Tre Forestry and Aquaproduct Import Export Joint Stock Company (“Faquimex”)
Bentre Forestry and Aquaproduct Import-Export Joint Stock Company (“FAQUIMEX”)
Bien Dong Seafood Co., Ltd.
BIM Seafood Joint Stock Company
Binh An Seafood Joint Stock Company
C.P. Vietnam Corporation (“C.P. Vietnam”)
C.P. Vietnam Livestock Company Limited
C.P. Vietnam Livestock Company Limited (“C.P. Vietnam”)
C.P. Vietnam Livestock Corporation
C.P. Vietnam Livestock Corporation (“C.P. Vietnam”)
Ca Mau Foods and Fishery Export Joint Stock Company
Ca Mau Seafood Joint Stock Company (“Seaprimexco Vietnam”)
Ca Mau Seafood Joint Stock Company (“SEAPRIMEXCO”)
CADOVIMEX Seafood Import Export and Processing Joint Stock Company
CADOVIMEX II Seafood Import Export and Processing Joint Stock Company
Cadovimex Seafood Import-Export and Processing Joint-Stock Company (“Cadovimex”)
Cadovimex Seafood Import-Export and Processing Joint Stock Company (“CADOVIMEX-VIETNAM”)
Cafatex
Cafatex Corp
Cafatex Corporation
Cafatex Fishery Joint Stock Corporation (“Cafatex Corp.”)
Cafatex Vietnam
Cai Doi Vam Seafood Im Ex Co. (“Cadovimex”)
Cai Doi Vam Seafood Import-Export Company (“Cadovimex”)
Caidoivam Seafood Company (Cadovimex)
Camranh Seafoods
Cam Ranh Seafoods
Cam Ranh Seafoods Processing Enterprise Company (“Camranh Seafoods”)
Cam Ranh Seafoods Processing Enterprise Processing Pte.
Cam Ranh Seafoods Processing Enterprise Company (“Camranh Seafoods”) and/or Cam Ranh Seafoods Processing Enterprise PTE and/or Camranh Seafoods
Camau Foods and Fishery Export Joint Stock Company (“Fine Food Company FFC”)
Camau Frozen Seafood Processing Import Export Corporation (“Camimex”)
Camau Frozen Seafood Processing Import-Export Corporation (“CAMIMEX”)
Camau Seafood Factory No. 5
Camau Seafood Factory No.4
Camimex
Camranh Seafoods Processing & Exporting Company Limited and its branch factory, Branch of Camranh Seafoods Processing Enterprise Pte.
Camranh Seafoods Processing Enterprise Pte.
Camu Frozen Seafood Processing Import Export Corp. (CAMIMEX-FAC 25)
Camau Seafood Processing and Service Jointstock Corporation (“CASES”)
Camau Seafood Processing and Service Joint-Stock Company (“CASES”)
Can Tho Agricultural and Animal Product Import Export Company (“CATACO”) and/or Can Tho Agricultural and Animal Products Import Export Company (“CATACO”)
Can Tho Agricultural and Animal Products Imex Company
Can Tho Agricultural and Animal Products Import Export Company (“CATACO”)
Can Tho Agricultural Products
Can Tho Import Export Fishery Limited Company (“CAFISH”)
Can Tho Import Export Seafood Joint Stock Company (CASEAMEX)
Can Tho Agricultural and Animal Product Import Export Company (“CATACO”) and/or
Can Tho Agricultural and Animal Products Import Export Company (“CATACO”)
Cantho Agricultural & Animal Product Import Export Company (“CATACO”) and/or
Can Tho Agricultural and Animal Products Import Export Company (“CATACO”)
Cantho Import Export Fishery Limited Company (“CAFISH”)
Cantho Import-Export Seafood Joint Stock Company (“CASEAMEX”)
CATACO
Cau Tre Enterprise (C.T.E.)
Cautre Export Goods Processing Joint Stock Company
Chang Shin Vietnam Co., Ltd.
CL Fish Co., Ltd. (Cuu Long Fish Company)
Coastal Fisheries Development Corporation
Coastal Fisheries Development Corporation (“COFIDEC”)
Coastal Fishery Development
COFIDEC
Cong Ty Tnhh Thong (Thong Thuan)
Cuu Long Seapro
Cuu Long Seaproducts Company (“Cuulong Seapro”)
Cuulong Seapro
D & N Foods Processing (Danang Company Ltd.)
Danang Seaproducts Import-Export Corporation
Danang Seaproducts Import Export Corporation (“Seaprodex Danag”)
Duy Dai Corporation
Fimex VN
Fine Foods Company (“FFC”)
Frozen Seafoods Factory No. 32
Gallant Dachan Seafood Co., Ltd.
Gallant Dachan Seafood Co., Ltd. (“Gallant Dachan”)
Gallant Ocean (Quang Ngai) Co., Ltd.
Gallant Ocean (Vietnam) Co., Ltd.
Gallant Ocean (Vietnam) Co., Ltd. (“Gallant Ocean Vietnan”)
Gn Foods
Goldenquality Seafood Corporation
Hai Thanh Food Company Ltd.
Hai Viet Corporation (“HAVICO”)
Hai Vuong Co., Ltd.
Hoa Phat Aquatic Products Processing and Trading Service Co., Ltd.
Hoang Hai Company Ltd.
Hoang Phuong Seafood Factory
Hua Heong Food Industries Vietnam Co. Ltd.
Incomfish
Incomfish Corp.
Incomfish Corporation
Interfood Shareholding Co.
Investment Commerce Fisheries
Investment Commerce Fisheries Corp.
Investment Commerce Fisheries Corporation (“Incomfish”)
Investment Commerce Fisheries Corporation (“Incomfish Corp.”)
Khanh Loi Seafood Factory
Kien Long Seafoods Co. Ltd.
Kim Anh Co., Ltd.
Kim Anh Company Ltd. (“Kim Anh”)
Kim Anh Company Limited (“Kim Anh”)
Luan Vo Fishery Co., Ltd.
Lucky Shining Co., Ltd.
Minh Chau Imp. Exp. Seafood Processing Co., Ltd.
Minh Cuong Seafood Import Export Frozen Processing Joint Stock Company (“Minh Cuong Seafood”)
Minh Hai Export Frozen Seafood Processing Joint-Stock Company (“Minh Hai Jostoco”)
Minh Hai Export Frozen Seafood Processing Joint-Stock Company (“Minh Hai Jostoco”) and/;or
Minh Hai Export Frozen Seafood Processing Joint-Stock Company (“Minh Hai Jostoco”)
Minh Hai Joint Stock Seafoods Processing Company
Minh Hai Joint-Stock Seafoods Processing Company (“Seaprodex Minh Hai”)
Minh Hai Jostoco
Minh Hai Sea Products Import Export Company (“Seaprimex”)
Minh Phat Seafood
Minh Phat Seafood Co., Ltd.
Minh Phu—Hau Giang Seafood Processing Company Limited
Minh Phu Seafood Corp.
Minh Phu Seafood Corporation
Minh Phu Seafood Pte
Minh Qui Seafood
Minh Qui Seafood Co., Ltd.
Mp Consol Co., Ltd.
My Son Seafoods Factory
Nam Hai Foodstuff and Export Company Ltd
Ngo Bros Seaproducts Import-Export One Member Company Limited
Ngoc Chau Co., Ltd. and/or
Ngoc Chau Seafood Processing Company
Ngoc Sinh
Ngoc Sinh Seafoods Processing and Trading Enterprise
Ngoc Sinh Fisheries
Ngoc Sinh Private
Ngoc Sinh Private Enterprises
Ngoc Sinh Seafood Processing Company
Ngoc Sinh Seafood Trading & Processing
Ngoc Sinh Seafood Trading & Processing Enterprise
Ngoc Sinh Seafoods
Ngoc Sinh Seafoods (Private Enterprise)
Ngoc Sinh Seafoods Processing and Enterprises
Ngoc Sinh Seafood Processing and Trading Enterprises
Ngoc Tri Seafood Joint Stock Company
Nha Trang Fisco
Nha Trang Fisheries Joint Stock Company
Nha Trang Fisheries Joint Stock Company (“Nha Trang Fisco”)
Nha Trang Fisheries, Joint Stock
Nha Trang Seafoods
Nha Trang Seaproduct Company
Nha Trang Seaproducts Company Nha Trang Seafoods
Nha Trang Seaproduct Company (“Nha Trang Seafoods”)
Nhat Duc Co., Ltd. (“Nhat Duc”)
Nhatrang Fisco
NhaTrang Seafoods
Nha Trang Seafoods-F.89 Joint Stock Company
Nhatrang Seafoods-F.89 Joint Stock Company
NT Seafoods Corporation
NTSF Seafoods Joint Stock Company
Phu Cuong Jostoco Corp.
Phu Cuong Jostoco Seafood Corporation
Phu Cuong Seafood Processing & Import-Export Co., Ltd. (“Phu Cuong Jostoco”)
Phuong Nam Co., Ltd. (“Phuong Nam”)
Phuong Nam Foodstuff Corp. (“Phuong Nam”)
Phuong Nam Foodstuff Corp.
Quang Ninh Export Aquatic Products Processing Factory
Quang Ninh Seaproducts Factory
Quoc Viet Seaproducts Processing Trading and Import-Export Co., Ltd.
S.R.V. Freight Services Co., Ltd.
Sao Ta Foods Joint Stock Company
Sao Ta Foods Joint Stock Company (“Fimex VN”)
Sao Ta Foods Joint Stock Company (“Fimex VN”) and/or Sao Ta Foods Joint Stock Company (“FIMEX”)
Sao Ta Seafood Factory
Sao Ta Seafoods Factory
Saota Seafood Factory
Sea Minh Hai
Seafoods and Foodstuff Factory
Seaprimexco
Seaprimexco Vietnam
Seaprodex Danang
Seaprodex Min Hai
Seaprodex Minh Hai
Seaprodex Minh Hai (Minh Hai Joint Stock Seafoods Processing Co.)
Seaprodex Minh Hai Factory No. 69
Seaprodex Minh Hai Workshop 1
Seaprodex Minh Hai-Factory No. 78
Seavina Joint Stock Company
Soc Trang Aquatic Products and General Import Export Company
Soc Trang Aquatic Products and General Import Export Company (“Stapimex”)
Soc Trang Aquatic Products and General Import Export Company-(Stapimex)
Soc Trang Seafood Joint Stock Company
Soc Trang Seafood Joint Stock Company (“Stapimex”)
Stapimex
Stapmex
Sustainable Seafood
Tacvan Frozen Seafood Processing Export Company (“Tac Van Seafoods Co”)
Tacvan Seafoods Company (“TACVAN”)
Tai Kim Anh Seafood Joint Stock Company
Tan Phong Phu Seafood Co., Ltd.
Tan Thang Loi Frozen Food Co., Ltd.
Taydo Seafood Enterprise
Thanh Doan Seaproducts Import & Export Processing Joint-Stock Company (THADIMEXCO)
Thanh Hung Frozen Seafood Processing Import Export Co., Ltd.
Thanh Tri Seafood Processing Co. Ltd.
The Quang Co.
The Quang Seafood Processing & Export Company
Tho Quang
Tho Quang Seafood Processing and Export Company
Thong Thuan—Cam Ranh Seafood Joint Stock Company
Thong Thuan Company Limited
Thong Thuan Seafood Company Limited
Thuan Phuoc Seafoods and Trading Corporation
Tien Tien Garment Joint Stock Company
Tithi Co., Ltd.
Trang Corporation
UTXI
UTXI Aquatic Products Processing Company
UTXI Aquatic Products Processing Corporation (“UTXICO”)
UTXI Co. Ltd.
Viet Cuong Seafood Processing Import Export
Viet Cuong Seafood Processing Import Export Joint-Stock Company
Viet Foods Co., Ltd.
Viet Foods Co., Ltd. (“Viet Foods”)
Viet Hai Seafood Co., Ltd.
Viet I-Mei Frozen Foods Co., Ltd.
Vietnam Clean Seafood Corporation (VINA Cleanfood)
Vietnam Clean Seafood Corporation (“VINA Cleanfood”)
Vietnam Fish-One Co., Ltd.
Vietnam Fish One Co., Ltd. (“Fish One”)
Vietnam Northern Viking Technologies Co. Ltd.
VIMEX
VIMEXCO
Vinatex Danang
Vinh Hoan Corp.
Vinh Import Export Company (“Vimexco”) and/or Vinh Loi Import Export Company (“VIMEX”)
Vinh Loi Import Export Company (“Vimexco”)
Vinh Loi Import Export Company “(VIMEX”)
Vinh Loi Import/Export Co.
Vinh Loi Import-Export Company
Vinhloi Import Export Company
Xi Nghiep Che Bien Thuy Suc San Xuat Kau Cantho
Socialist Republic of Vietnam: Steel Wire Garment Hangers, A-552-812 | 8/2/12-1/31/14
Acton Co, Ltd.
Angang Clothes Rack Manufacture Co.
Asmara Home Vietnam
B2B Co., Ltd.
Capco Wai Shing Viet Nam Co. Ltd.
CTN Limited Company (a/k/a C.T.N. International Ltd. and CTN Co. Ltd)
City Tnhn Mtv Xnk My Phuoc (a/k/a City Thnh San Xuat My Phuoc Long An Factory)
Dai Nam Investment JSC (part of Dai Nam Group)
Diep Son Hangers One Member Co. Ltd. (a/k/a Diep Son Hangers Co. Ltd.)
Dong Nam A Co. Ltd. (a/k/a Dong Nam A Hamico)
Dong Nam A Trading Co.
Est Glory Industrial Ltd.
Focus Shipping Corp.
Godoxa Viet Nam Ltd. (a/k/a Godoxa Vietnam Co. Ltd.)
HCMC General Import and Export Investment Joint Stock Company (Imexco)
Hongxiang Business and Product Co., Ltd.
Infinite Industrial Hanger Limited (a/k/a Infinite Industrial Hanger Co. Ltd.)
Ju Fu Co. Ltd. (a/k/a Jufu Company, Ltd.)
Linh Sa Hamico Company, Ltd.
Long Phung Co. Ltd.
Lucky Cloud (Vietnam) Hanger Co. Ltd.
Minh Quang Steel Joint Stock Company (a/k/a Minh Quang Hanger) (Part of the Dai Nam Group)
Moc Viet Manufacture Co., Ltd.
Nam A Hamico Export Joint Stock Co. (a/k/a Dong Nam Hamico Joint Stock Company)
N-Tech Vina Co. Ltd.
NV Hanger Co., Ltd. (a/k/a Nguyen Haong Vu Co. Ltd.)
Quoc Ha Production Trading Services Co. Ltd.
Quyky Group/Quyky Co., Ltd./Quyky-Yangle International Co., Ltd.
S.I.I.C.
South East Asia Hamico Exports JSC
T.J. CO. Ltd.
Tan Dinh Enterprise (a/k/a Tan Dihn Enterprise)
Tan Minh Textile Sewing Trading Co., Ltd.
Thanh Hieu Manufacturing Trading Co. Ltd.
The Xuong Co. Ltd.
Thien Ngon Printing Co, Ltd.
Top Sharp International Trading Limited
Triloan Hangers, Inc.
Tri-State Trading (a/k/a Nghia Phuong Nam Production Trading)
Trung Viet My Joint Stock Company
Truong Hong Lao—Viet Joint Stock
Uac Co. Ltd.
Viet Anh Imp-Exp Joint Stock Co.
Viet Hanger Investment, LLC (a/k/a Viet Hanger)
Vietnam Hangers Joint Stock Company (a/k/a Cong Ty Co Phan Moc AO)
Vietnam Sourcing (a/k/a VNS and VN Sourcing)
Winwell Industrial Ltd. (Hong Kong)
Yen Trang Co., Ltd.
Zownzi Hardware Hanger Factory Ltd.
Socialist Republic of Vietnam: Utility Scale Wind Towers, A-552-814 | 2/13/13-1/31/14
CS Wind Corporation
CS Wind Vientnam Co., Ltd.
Vina Halla Heavy Industries Ltd.
UBI Tower Sole Member Company Ltd.
The People's Republic of China: Certain Frozen Warmwater Shrimp, A-570-893 | 2/1/13-1/31/14
Asian Seafoods (Zhanjiang) Co., Ltd.
Beihai Angbang Seafood Co., Ltd.
Beihai Boston Frozen Food Co., Ltd.
Dalian Shanhai Seafood Co., Ltd.
Dalian Taiyang Aquatic Products Co., Ltd.
Eimskip Logistics (Qingdao) Co., Ltd.
EZ Logistics Inc.
EZ Logistics LLC (Qingdao Branch)
Fujian Chaohui International Trading
Fujian Rongjiang Import and Export Co., Ltd.
Fujian Tea Import & Export Co., Ltd.
Fujian Zhaoan Haili Aquatic Co., Ltd.
Fuqing Dongwei Aquatic Products Ind.
Fuqing Minhua Trade Co., Ltd.
Fuqing Yihua Aquatic Food Co., Ltd.
Guangdong Foodstuffs Import & Export (Group) Corporation
Guangdong Gourmet Aquatic Products Co., Ltd.
Guangdong Jinhang Food Co., Ltd.
Guangdong Jinhang Foods Co., Ltd.
Guangdong Wanshida Holding Corp.
Guangdong Wanya Foods Fty. Co., Ltd.
Guangzhou Shi Runjin Trading Development Co., Ltd.
Haida Seafood Co., Ltd.
HaiLi Aquatic Product Co., Ltd.
Hainan Brich Aquatic Products Co., Ltd.
Hua Yang (Dalian) International Transportation Service Co.
Huazhou XinHai Aquatic Products Co. Ltd.
Jiazhou Foods Industry Co., Ltd.
Longhai Gelin Foods Co., Ltd.
Longhai Gelin Seafoods Co., Ltd.
Maoming Xinzhou Seafood Co., Ltd.
North Seafood Group Co.
Panwin International Logistics Co., Ltd.
Pingye Foreign Transportation Corp. Ltd of Shantou, SE.Z.
Rizhao Smart Foods Company Limited
Savvy Seafood Inc.
Shanghai Lingpu Aquatic Products Co., Ltd.
Shanghai Smiling Food Co., Ltd.
Shantou Freezing Aquatic Product Foodstuffs Co.
Shantou Jiazhou Food Industrial Co., Ltd.
Shantou Jin Cheng Food Co., Ltd.
Shantou Jintai Aquatic Product Industrial Co., Ltd.
Shantou Li An Plastic Products Co. Ltd.
Shantou Longsheng Aquatic Product Foodstuff Co., Ltd.
Shantou Wanya Foods Fty. Co., Ltd.
Shantou Yuexing Enterprise Co.
Thai Royal Frozen Food Zhanjiang Co., Ltd.
Yangjiang Anyang Food Co., Ltd.
Yangjiang City Haida Seafood Company Ltd.
Yangjiang City Hongwai Seafood Company, Ltd.
Zhangzhou Xinwanya Aquatic Product Co., Ltd.
Zhangzhou Yanfeng Aquatic Product
Zhanjiang Evergreen Aquatic Product Science and Technology Co., Ltd.
Zhanjiang Fuchang Aquatic Products Co., Ltd.
Zhanjiang Jinguo Marine Foods Co., Ltd.
Zhanjiang Longwei Aquatic Products Industry Co., Ltd.
Zhanjiang Universal Seafood Corp.
Zhanjiang Newpro Foods Co., Ltd.
Zhanjiang Regal Integrated Marine Resources Co., Ltd.⁵
Zhaoan Yangli Aquatic Co., Ltd.
The People's Republic of China: Certain Preserved Mushrooms, A-570-851 | 2/1/13-1/31/14
Ayecue (Liaocheng) Foodstuff Co., Ltd.
Blue Field (Sichuan) Food Industrial Co., Ltd.
China National Cereals, Oils & Foodstuffs Import & Export Corp.
China Processed Food Import & Export Co.
Dalian J&N Foods Co., Ltd.
Dezhou Kaihang Agricultural Science Technology Co., Ltd.
Dujiangyan Xingda Foodstuff Co., Ltd.
Fujian Dongshan Changlong Trade Co., Ltd.
Fujian Golden Banyan Foodstuffs Industrial Co., Ltd.
Fujian Haishan Foods Co., Ltd.
Fujian Pinghe Baofeng Canned Foods
Fujian Tongfa Foods Group Co., Ltd.
Fuzhou Sunshine Imp. & Exp. Co., Ltd.
Fujian Yuxing Fruits and Vegetables Foodstuffs Development Co., Ltd.
Fujian Zishan Group Co., Ltd.
Golden Banyan Foodstuffs Co., Ltd.
Guangxi Eastwing Trading Co., Ltd.
Guangxi Hengyong Industrial & Commerical Dev. Ltd.
Guangxi Jisheng Foods, Inc.
Inter-Foods (Dongshan) Co., Ltd.
Linyi City Kangfa Foodstuff Drinkable Co., Ltd.
Longhai Guangfa Food Co., Ltd.
Longhai Jiasheng Food Co., Ltd.
Primera Harvest (Xiangfan) Co., Ltd.
Qingdao Canned Foods Co., Ltd.
Shandong Fengyu Edible Fungus Corporation Ltd.
Shandong Jiufa Edible Fungus Corporation, Ltd.
Shandong Yinfeng Rare Fungus Corporation, Ltd.
Synehon (Xiamen) Trading Co., Ltd.
Sun Wave Trading Co., Ltd.
Xiamen Carre Food Co., Ltd.
Xiamen Choice Harvest Imp.
Xiamen Greenland Import & Export Co., Ltd.
Xiamen Gulong Import & Export Co., Ltd.
Xiamen Gulong Import Export Co. Ltd.
Xiamen International Trade & Industrial Co., Ltd.
Xiamen Jiahua Import & Export Trading Co., Ltd.
Xiamen Longhuai Import & Export Co., Ltd.
Xiamen Sungiven Import & Export Co., Ltd.
Xiamen Yubang Import Export Trading Co. Ltd.
Zhangzhou Gangchang Canned Foods Co., Ltd. (a/k/a Zhangzhou Gangchang Canned Foods Co., Ltd., Fujian)
Zhangzhou Golden Banyan Foodstuffs Industrial Co., Ltd.
Zhangzhou Hongda Import & Export Trading Co., Ltd.
Zhangzhou Lixing Imp. & Exp. Trade Co., Ltd.
Zhangzhou Long Mountain Foods Co., Ltd.
Zhangzhou Tan Co., Ltd.
Zhangzhou Tianbaolong Food Co., Ltd.
Zhangzhou Tongfa Foods Industry Co., Ltd.
Zhangzhou Yuxing Imp. & Exp. Trading Co., Ltd.
Zhangzhou Xiangcheng Rainbow & Greenland Food Co., Ltd.
Zhejiang Iceman Food Co., Ltd.
Zhejiang Iceman Group Co., Ltd.
The People's Republic of China: Small Diameter Electrodes, A-570-929 | 2/1/13-1/31/14
5-Continent Imp. & Exp. Co., Ltd.
Acclcarbon Co., Ltd.
Allied Carbon (China) Co., Limited
Anssen Metallurgy Group Co., Ltd.
AMGL
Apex Maritime (Dalian) Co., Ltd.
Asahi Fine Carbon (Dalian) Co., Ltd.
Beijing Fangda Carbon Tech Co., Ltd.
Beijing Kang Jie Kong Cargo Agent Expeditors (Tianjin Branch)
Beijing Xinchengze Inc.
Beijing Xincheng Sci-Tech. Development Inc.
Brilliant Charter Limited
Carbon International
Chang Cheng Chang Electrode Co., Ltd.
Chengdelh Carbonaceous Elements Factory
Chengdu Jia Tang Corp.
Chengdu Rongguang Carbon Co., Ltd.
China Industrial Mineral & Metals Group
China Shaanxi Richbond Imp. & Exp. Industrial Corp. Ltd.
China Xingyong Carbon Co., Ltd.
CIMM Group Co., Ltd.
Dalian Carbon & Graphite Corporation
Dalian Hongrui Carbon Co., Ltd.
Dalian Honest International Trade Co., Ltd.
Dalian Horton International Trading Co., Ltd.
Dalian LST Metallurgy Co., Ltd.
Dalian Oracle Carbon Co., Ltd.
Dalian Shuangji Co., Ltd.
Dalian Thrive Metallurgy Imp. & Exp. Co., Ltd.
Datong Carbon
Datong Carbon Plant
Datong Xincheng Carbon Co., Ltd.
Dechang Shida Carbon Co., Ltd
De Well Container Shipping Corp.
Dewell Group
Dignity Success Investment Trading Co., Ltd.
Double Dragon Metals and Mineral Tools Co., Ltd.
Fangda Carbon New Material Co., Ltd.
Fangda Carbon New Material and Technology Co., Ltd.
Fangda Lanzhou Carbon Joint Stock Company Co. Ltd.
Foset Co., Ltd.
Fushun Carbon Co., Ltd.
Fushun Carbon Plant
Fushun Jinly Petrochemical Carbon Co., Ltd.
Fushun Jinli Petrochemical Carbon Co., Ltd.
Fushun Orient Carbon Co., Ltd.
GES (China) Co., Ltd.
Grameter Shipping Co., Ltd. (Qingdao Branch)
Guangdong Highsun Yongye (Group) Co., Ltd.
Guanghan Shida Carbon Co., Ltd.
Haimen Shuguang Carbon Industry Co., Ltd.
Handan Hanbo Material Co., Ltd.
Hanhong Precision Machinery Co., Ltd.
Hebei Long Great Wall Electrode Co., Ltd.
Hefei Carbon Co., Ltd.
Heico Universal (Shanghai) Distribution Co., Ltd.
Heilongjiang Xinyuan Carbon Products Co., Ltd.
Heilongjiang Xinyuan Metacarbon Company Ltd.
Henan Sanli Carbon Products Co., Ltd.
Henan Sihai Import and Export Co., Ltd.
Hopes (Beijing) International Co., Ltd.
Huanan Carbon Factory
Hunan Mec Machinery and Electronics Imp. & Exp. Corp.
Hunan Yinguang Carbon Factory Co., Ltd.
Inner Mongolia QingShan Special Graphite and Carbon Co., Ltd.
Inner Mongolia Xinghe County Hongyuan Electrical Carbon Factory
Jiang Long Carbon
Jiangsu Yafei Carbon Co., Ltd.
Jiaozuo Zhongzhou Carbon Products Co., Ltd.
Jichun International Trade Co., Ltd. of Jilin Province
Jiexiu Juyuan Carbon Co., Ltd.
Jiexiu Ju-Yuan & Coaly Co., Ltd.
Jilin Carbon Graphite Material Co., Ltd.
Jilin Carbon Import and Export Company
Jilin Songjiang Carbon Co Ltd.
Jinneng Group Co., Ltd.
Jinyu Thermo-Electric Material Co., Ltd.
JL Group
Kaifeng Carbon Company Ltd.
KASY Logistics (Tianjin) Co., Ltd.
Kimwan New Carbon Technology and Development Co., Ltd.
Kingstone Industrial Group Ltd.
L & T Group Co., Ltd.
Laishui Long Great Wall Electrode Co. Ltd.
Lanzhou Carbon Co., Ltd.
Lanzhou Carbon Import & Export Corp.
Lanzhou Hailong New Material Co.
Lanzhou Hailong Technology
Lanzhou Ruixin Industrial Material Co., Ltd.
LH Carbon Factory of Chengde
Lianxing Carbon Qinghai Co., Ltd.
Lianxing Carbon Science Institute
Lianxing Carbon (Shandong) Co., Ltd.
Lianyungang Jinli Carbon Co., Ltd.
Lianyungang Jianglida Mineral Co., Ltd.
Liaoning Fangda Group Industrial Co., Ltd.
Liaoyang Carbon Co. Ltd.
Linghai Hongfeng Carbon Products Co., Ltd.
Linyi County Lubei Carbon Co., Ltd.
Maoming Yongye (Group) Co., Ltd.
MBI Beijing International Trade Co., Ltd.
Nantong Dongjin New Energy Co., Ltd.
Nantong Falter New Energy Co., Ltd.
Nantong River-East Carbon Co., Ltd.
Nantong River-East Carbon Joint Stock Co., Ltd.
Nantong Yangtze Carbon Corp. Ltd.
Oracle Carbon Co., Ltd.
Orient (Dalian) Carbon Resources Developing Co., Ltd.
Orient Star Transport International, Ltd.
Peixian Longxiang Foreign Trade Co. Ltd.
Pingdingshan Coal Group
Pudong Trans USA, Inc. (Dalian Office)
Qingdao Grand Graphite Products Co., Ltd.
Qingdao Haosheng Metals Imp. & Exp. Co., Ltd.
Quingdao Haosheng Metals & Minerals Imp. & Exp. Co., Ltd.
Qingdao Liyikun Carbon Development Co., Ltd.
Qingdao Likun Graphite Co., Ltd.
Qingdao Ruizhen Carbon Co., Ltd.
Qingdao Yijia E.T.I. I/E Co., Ltd.
Qingdao Youyuan Metallurgy Material Limited Company (China)
Ray Group Ltd.
Rex International Forwarding Co., Ltd.
Rt Carbon Co., Ltd.
Ruitong Carbon Co., Ltd.
Sea Trade International, Inc.
Seamaster Global Forwarding (China)
Shandong Basan Carbon Plant
Shandong Zibo Continent Carbon Factory
Shanghai Carbon International Trade Co., Ltd.
Shanghai GC Co., Ltd.
Shanghai Jinneng International Trade Co., Ltd.
Shanghai P.W. International Ltd.
Shanghai Shen-Tech Graphite Material Co., Ltd.
Shanghai Topstate International Trading Co., Ltd.
Shanxi Datong Energy Development Co., Ltd.
Shanxi Foset Carbon Co. Ltd.
Shanxi Jiexiu Import and Export Co., Ltd.
Shanxi Jinneng Group Co., Ltd.
Shanxi Yunheng Graphite Electrode Co., Ltd.
Shenyang Jinli Metals & Minerals Imp. & Exp. Co., Ltd.
Shida Carbon Group
Shijaizhuang Carbon Co., Ltd.
Shijiazhuang Huanan Carbon Factory
Sichuan 5-Continent Imp & Exp Co., Ltd.
Sichuan Dechang Shida Carbon Co., Ltd.
Sichuan Shida Carbon Co., Ltd.
Sichuan Shida Trading Co., Ltd.
Sichuan GMT International Inc.
Sichuan Guanghan Shida Carbon Co., Ltd
Sinicway International Logistics Ltd.
Sinosteel Anhui Co., Ltd.
Sinosteel Corp.
Sinosteel Jilin Carbon Co., Ltd.
Sinosteel Jilin Carbon Plant
Sinosteel Jilin Carbon Imp. & Exp. Co., Ltd.
Sinosteel Sichuan Co., Ltd.
SK Carbon
SMMC Group Co., Ltd.
Sure Mega (Hong Kong) Ltd.
Tangshan Kimwan Special Carbon & Graphite Co., Ltd.
Tengchong Carbon Co., Ltd.
T.H.I. Global Holdings Corp.
T.H.I. Group (Shanghai), Ltd.
Tianjin (Teda) Iron & Steel Trade Co., Ltd.
Tianjin Kimwan Carbon Technology and Development Co., Ltd.
Tianjin Yue Yang Industrial & Trading Co., Ltd.
Tianzhen Jintian Graphite Electrodes Co., Ltd.
Tielong (Chengdu) Carbon Co., Ltd.
UK Carbon & Graphite
United Carbon Ltd.
United Trade Resources, Inc.
Weifang Lianxing Carbon Co., Ltd.
World Trade Metals & Minerals Co., Ltd.
XC Carbon Group
Xinghe County Muzi Carbon Co., Ltd.
Xinghe County Muzi Carbon Plant
Xinghe Xingyong Carbon Co., Ltd.
Xinghe Xinyuan Carbon Products Co., Ltd.
Xinyuan Carbon Co., Ltd.
Xuanhua Hongli Refractory and Mineral Company
Xuchang Minmetals & Industry Co., Ltd.
Xuzhou Carbon Co., Ltd.
Xuzhou Electrode Factory
Xuzhou Jianglong Carbon Manufacture Co., Ltd.
Xuzhou Lianglong Carbon Manufacture Cp., Ltd.
Yangzhou Qionghua Carbon Trading Ltd.
Yixing Huaxin Imp & Exp Co. Ltd.
Youth Industry Co., Ltd.
Zhengzhou Jinyu Thermo-Electric Material Co., Ltd.
Zibo Continent Carbon Factory
Zibo DuoCheng Trading Co., Ltd.
Zibo Lianxing Carbon Co., Ltd.
Zibo Wuzhou Tanshun Carbon Co., Ltd.
The People's Republic of China: Uncovered Innerspring Units, A-570-928 | 2/1/13-1/31/14
Comfort Coil Technology Sdn Bhd
Creative Furniture & Bedding Manufacturing
The People's Republic of China: Utility Scale Wind Towers, A-570-981 | 2/13/13-1/31/14
Alstom Sizhou Electric Power Equipment Co., Ltd.
AUSKY (Shandong) Machinery Manufacturing Co., Ltd.
CATIC International Trade & Economic Development Ltd.
Chengde Tianbao Machinery Co., Ltd.
Chengxi Shipyard Co., Ltd.
China WindPower Group
CleanTech Innovations Inc.
CNR Wind Turbine Co., Ltd.
CS Wind China Co., Ltd.
CS Wind Corporation
CS Wind Tech (Shanghai) Co., Ltd.
Dajin Heavy Industry Corporation
Greenergy Technology Co., Ltd.
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangsu Taihu Boiler Co., Ltd.
Jilin Miracle Equipment Manufacturing Engineering Co., Ltd.
Jilin Tianhe Wind Power Equipment Co., Ltd. (f/k/a Jilin Mingmen Wind Power Equipment Co., Ltd.)
Jinan Railway Vehicles Equipment Co., Ltd.
Nanjing Jiangbiao Group Co., Ltd.
Nantong Dontai New Energy Equipment Co., Ltd.
Nantong Hongbo Windpower Equipment Co., Ltd.
Ningxia Electric Power Group
Ningxia Yinxing Energy Co.
Ningzxia Yinyi Wind Power Generation Co., Ltd.
Qingdao GeLinTe Environmental Protection Equipment Co., Ltd.
Qingdao Ocean Group
Qingdao Pingcheng Steel Structure Co., Ltd.
Qingdao Tianneng Electric Power Engineering Machinery Co., Ltd.
Qingdao Wuxiao Group Co., Ltd.
Renewable Energy Asia Group Ltd.
Shandong Endless Wind Turbine Techincal Equpiment Co., Ltd.
Shandong Zhongkai Wind Power Equipment Manufacturers, Ltd.
Shanghai Aerotech Trading International
Shanghai GE Guangdian Co., Ltd.
Shanghai Tiasheng Wind Power Equipment Co., Ltd.
Sinovel Wind Group Co., Ltd.
Suihua Wuxiao Electric Power Equipment Co., Ltd.
Titan (Lianyungang) Metal Product Co., Ltd.
Titan Wind Energy Suzhou Co., Ltd.
Wuxiao Steel Tower Co., Ltd.
Xinjiang Huitong (Group) Co., Ltd.
The People's Republic of China: Wooden Bedroom Furniture, ⁶ A-570-890 | 1/1/13-12/31/13
Yihua Timber Industry Co., Ltd., Guangdong Yihua Timber Industry Co., Ltd.
Zhang Zhou Sanlong Wood Product Co., Ltd.
Zhangjiagang Daye Hotel Furniture Co., Ltd.
Zhangjiang Sunwin Arts & Crafts Co., Ltd.
Zhangzhou Guohui Industrial & Trade Co. Ltd.
Zhejiang Tianyi Scientific & Educational Equipment Co., Ltd./Zhejiang Tianyi Scientific & Educational Equipment Co., Ltd.
Zhong Shan Fullwin Furniture Co., Ltd.
Zhongshan Fookyik Furniture Co., Ltd.
Zhongshan Golden King Furniture Industrial Co., Ltd.
Zhoushan For-Strong Wood Co., Ltd.
Countervailing Duty Proceedings
Republic of Korea: Certain Cut-to-Length Carbon-Quality Steel Plate, C-580-837 | 1/1/13-12/31/13
Dongkuk Steel Mill Co., Ltd.
Republic of Korea: Large Residential Washers, C-580-869 | 6/2/12-12/31/13
Daewoo Electronics Corporation
Samsung Electronics Co., Ltd.
Socialist Republic of Vietnam: Steel Wire Garment Hangers, C-552-813 | 6/4/12-12/31/13
ActOn Co, Ltd.
Angang Clothes Rack Manufacture Co.
Asmara Home Vietnam
B2B Co., Ltd.
Capco Wai Shing Viet Nam Co. Ltd.
CTN Limited Company (a/k/a C.T.N. International Ltd. and CTN Co. Ltd)
City Tnhn Mtv Xnk My Phuoc (a/k/a City Thnh San Xuat My Phuoc Long An Factory)
Dai Nam Investment JSC (part of Dai Nam Group)
Diep Son Hangers One Member Co. Ltd. (a/k/a Diep Son Hangers Co. Ltd.)
Dong Nam A Co. Ltd. (a/k/a Dong Nam A Hamico)
Dong Nam A Trading Co.
Est Glory Industrial Ltd.
Focus Shipping Corp.
Godoxa Viet Nam Ltd. (a/k/a Godoxa Vietnam Co. Ltd.)
HCMC General Import and Export Investment Joint Stock Company (Imexco)
Hongxiang Business and Product Co., Ltd.
Infinite Industrial Hanger Limited (a/k/a Infinite Industrial Hanger Co. Ltd.)
Ju Fu Co. Ltd. (a/k/a Jufu Company, Ltd.)
Linh Sa Hamico Company, Ltd.
Long Phung Co. Ltd.
Lucky Cloud (Vietnam) Hanger Co. Ltd.
Minh Quang Steel Joint Stock Company (a/k/a Minh Quang Hanger) (Part of the Dai Nam Group)
Moc Viet Manufacture Co., Ltd.
Nam A Hamico Export Joint Stock Co. (a/k/a Dong Nam Hamico Joint Stock Company)
N-Tech Vina Co. Ltd.
NV Hanger Co., Ltd. (a/k/a Nguyen Haong Vu Co. Ltd.)
Quoc Ha Production Trading Services Co. Ltd.
Quyky Group/Quyky Co., Ltd./Quyky-Yangle International Co., Ltd.
S.I.I.C.
South East Asia Hamico Exports JSC
T.J. CO. Ltd.
Tan Dinh Enterprise (a/k/a Tan Dihn Enterprise)
Tan Minh Textile Sewing Trading Co., Ltd.
Thanh Hieu Manufacturing Trading Co. Ltd.
The Xuong Co. Ltd.
Thien Ngon Printing Co., Ltd.
Top Sharp International Trading Limited
Triloan Hangers, Inc.
Tri-State Trading (a/k/a Nghia Phuong Nam Production Trading)
Trung Viet My Joint Stock Company
Truong Hong Lao—Viet Joint Stock
Uac Co. Ltd.
Viet Anh Imp-Exp Joint Stock Co.
Viet Hanger Investment, LLC (a/k/a Viet Hanger)
Vietnam Hangers Joint Stock Company (a/k/a Cong Ty Co Phan Moc AO)
Vietnam Sourcing (a/k/a VNS and VN Sourcing)
Winwell Industrial Ltd. (Hong Kong)
Yen Trading Co., Ltd.
Zownzi Hardware Hanger Factory Ltd.
The People's Republic of China: Utility Scale Wind Towers, C-570-982 | 2/13/13-12/31/13
Alstom Sizhou Electric Power Equipment Co., Ltd.
AUSKY (Shandong) Machinery Manufacturing Co., Ltd.
Baotou Titan Wind Power Equipment Co., Ltd.
CATIC International Trade & Economic Development Ltd.
Chengde Tianbao Machinery Co., Ltd.
Chengxi Shipyard Co., Ltd.
China WindPower Group
CleanTech Innovations Inc.
CNR Wind Turbine Co., Ltd.
CS Wind China Co., Ltd.
CS Wind Corporation
CS Wind Tech (Shanghai) Co., Ltd.
Dajin Heavy Industry Corporation
Greenergy Technology Co., Ltd.
Guangdong No. 2 Hydropower Engineering Co., Ltd.
Harbin Hongguang Boilier Group Co., Ltd.
Hebei Ningqiang Group
Jiangsu Baolong Electromechanical Mfg. Co., Ltd.
Jiangsu Baolong Tower Tube Manufacture Co., Ltd.
Jiangsu Taihu Boiler Co., Ltd.
Jilin Miracle Equipment Manufacturing Engineering Co., Ltd.
Jilin Tianhe Wind Power Equipment Co., Ltd. (f/k/a/ Jilin Mingmen Wind Power Equipment Co., Ltd.)
Jinan Railway Vehicles Equipment Co., Ltd.
Nanjing Jiangbiao Group Co., Ltd.
Nantong Dongtai New Energy Equipment Co., Ltd.
Nantong HongboWindpower Equipment Co., Ltd.
Ningxia Electric Power Group
Ningxia Yinxing Energy Co.
Ningxia Yinyi Wind Power Generation Co., Ltd.
Qingdao GeLinTe Environmental Protection Equipment Co., Ltd.
Qingdao Ocean Group
Qingdao Pingcheng Steel Structure Co., Ltd.
Qingdao Tianneng Electric Power Engineering Machinery Co., Ltd.
Qingdao Wuxiao Group Co., Ltd.
Renewable Energy Asia Group Ltd.
Shandong Endless Wind Turbine Technical Equipment Co., Ltd.
Shandong Zhongkai Wind Power Equipment Manufacturers, Ltd.
Shanghai Aerotech Trading International
Shanghai GE Guangdian Co, Ltd.
Shanghai Taisheng Wind Power Equipment Co., Ltd.
Shenyang Titan Metal Co., Ltd.
Sinovel Wind Group Co., Ltd.
Suihua Wuxiao Electric Power Equipment Co, Ltd.
Titan (Lianyungang) Metal Product Co., Ltd.
Titan Wind (Suzhou) Co., Ltd.
Wuxiao Steel Tower Co., Ltd.
Xinjiang Huitong (Group) Co., Ltd.

Suspension Agreements

⁴ We have not initiated an administrative review with respect to Electrolux Home Products, Inc., as requested by one interested party, because this company is a U.S. importer and not a foreign producer or exporter of the subject merchandise.

⁵ The American Shrimp Processors Association requested that we conduct an administrative review of the antidumping duty order covering Certain Frozen Warmwater Shrimp from China with respect to subject merchandise exported or produced by Zhanjiang Regal Integrated Marine Resources Co., Ltd. (“Regal”), for the period from February 1, 2013 through January 31, 2014. Pursuant to the notice published in the Federal Register on September 12, 2013, the Order was revoked with respect to subject merchandise produced and exported by Regal, effective February 1, 2012. See Certain Frozen Warmwater Shrimp From the People's Republic of China: Final Results of Administrative Review; 2011-2012, 78 FR 56209, 56210 (September 12, 2013). Accordingly, we are initiating this review only with respect to subject merchandise exported by Regal but produced by another entity.

⁶ The companies listed were inadvertently omitted from the initiation notice that published on February 28, 2014 (79 FR 11401).

None

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁷ Parties are hereby reminded that revised certification requirements are in effect for company/government officials as well as their representatives. Ongoing segments of any antidumping duty or countervailing duty proceedings initiated on or after March 14, 2011 should use the formats for the revised certifications provided at the end of the Interim Final Rule.⁸ All segments of any antidumping duty or countervailing duty proceedings initiated on or after August 16, 2013, should use the formats for the revised certifications provided at the end of the Final Rule.⁹ The Department intends to reject factual submissions in any proceeding segments if the submitting party does not comply with applicable revised certification requirements.

⁷ See section 782(b) of the Act.

⁸ See Certification of Factual Information To Import Administration During Antidumping and Countervailing Duty Proceedings: Interim Final Rule, 76 FR 7491 (February 10, 2011) (“Interim Final Rule”), amending 19 CFR 351.303(g)(1) and (2); Certification of Factual Information To Import Administration During Antidumping and Countervailing Duty Proceedings: Supplemental Interim Final Rule, 76 FR 54697 (September 2, 2011).

⁹ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under part 351 expires, or as otherwise specified by the Secretary. In general, an extension request will be considered untimely if it is filed after the time limit established under part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: March 27, 2014.
Christian Marsh,
Deputy Assistant Secretary for Antidumping and Countervailing Duty Operations.

[FR Doc. 2014-07270 Filed 3-31-14; 8:45 am]

BILLING CODE 3510-DS-P